FEDERAL RESERVE SYSTEM

Consumer Advisory Council

ACTION: Notice of Meeting of the Consumer Advisory Council

The Consumer Advisory Council will meet on Thursday, March 6, 2008. The meeting, which will be open to public observation, will take place at the Federal Reserve Board's offices in Washington, D.C., in Dining Room E on the Terrace Level of the Martin Building. Anyone planning to attend the meeting should, for security purposes, register no later than Tuesday, March 4, by completing the form found online at: https://www.federalreserve.gov/secure/forms/cacregistration.cfm

Additionally, attendees must present photo identification to enter the building.

The meeting will begin at 9:00 a.m. and is expected to conclude at 1:00 p.m. The Martin Building is located on C Street, NW, between 20th and 21st Streets.

The Council's function is to advise the Board on the exercise of the Board's responsibilities under various consumer financial services laws and on other matters on which the Board seeks its advice. Time permitting, the Council will discuss the following topics:

• Proposed rules for residential mortgage transactions

Members will discuss the Board's proposal to establish new regulatory protections for consumers in the residential mortgage market through amendments to Regulation Z, which implements the Truth in Lending Act and the Home Ownership and Equity Protection Act. The proposal addresses unfair, abusive, or deceptive lending and servicing practices and mortgage advertising practices, and would also require creditors to provide consumers with transaction-specific cost disclosures earlier.

• Foreclosure issues

Members will discuss issues related to home foreclosures, such as loss-mitigation strategies and counseling initiatives.

Reports by committees and other matters initiated by Council members also may be discussed.

Persons wishing to submit views to the Council on any of the above topics may do so by sending written statements to Jennifer Kerslake, Secretary of the Consumer Advisory Council, Division of Consumer and Community Affairs, Board of Governors of the Federal Reserve System, Washington, D.C. 20551. Information about this meeting may be obtained from Ms. Kerslake, 202-452-6470.

Board of Governors of the Federal Reserve System, February 5, 2008.

Margaret McCloskey Shanks
Associate Secretary of the Board

[FR Doc. E8-2335 Filed 2-7-08; 8:45 am]

BILLING CODE 6210-01-S